DEPARTMENT OF HEALTH AND HUMAN SERVICES

Health Resources and Services Administration

National Advisory Council on Nurse Education and Practice; Notice of Meeting

In accordance with section 10(a)(2) of the Federal Advisory Committee Act (Pub. L. 92-463), notice is hereby given of the following meeting:

Name: National Advisory Council on Nurse Education and Practice (NACNEP).

Dates and Times: May 6, 2008, 8:30 a.m.-4:30 p.m.May 7, 2008, 8:30 a.m.-4 p.m.

Place: Hilton Washington DC/Rockville Executive Meeting Center, 1750 Rockville Pike, Rockville, MD 20852, Telephone: 301-468-1100.

Status: The meeting will be open to the public.

Purpose: The purpose of the meeting is to examine the nursing curricula of the different levels of basic registered nursing education (associate degree, diploma and baccalaureate degree).The objectives of the meeting are to understand similarities and differences in the nursing curricula and the effectiveness of the curricula in preparing the 21st century nursing student for professional practice. This meeting is a continuation of the meeting that was held November 2007 in which the NACNEP examined issues regarding nursing education in relation to teaching and learning strategies and the needs of employers.

Agenda: Agency and Bureau administrative updates will be provided. During this meeting, the NACNEP council members will deliberate as workgroups on the content presented and formulate recommendations to the Secretary of Health and Human Services and the Congress on the nursing curricula for the different levels of basic registered nursing education. Members from the professional nursing accreditation bodies, the state board of nursing and experts in the field of quality and safety education for nurses will provide information to assist the NACNEP in formulating and making their recommendations. This meeting and the meeting held November 2007 will form the basis for NACNEP's mandated Eighth Annual Report.

Agenda items are subject to change as dictated by the priorities of the Committee.

Supplementary Information: The NACNEP will join the Council on Graduate Medical Education (COGME), the Advisory Committee on Training in Primary Care Medicine and Dentistry (ACTPCMD), and the Advisory Committee on Interdisciplinary, Community-Based Linkages (ACICBL) on May 8, 2008, for the first Bureau of Health Professions (BHPr) All Advisory Committee Meeting. Please refer to the Federal Register notice for the BHPr All Advisory Committee Meeting for additional details.

For Further Information Contact: Anyone interested in obtaining a roster of members, minutes of the meeting, or other relevant information can contact Nancy Douglas-Kersellius, Acting Executive Secretary, National Advisory Council on Nurse Education and Practice, Health Resources and Services Administration, Parklawn Building, Room 9-36, 5600 Fishers Lane, Rockville, Maryland 20857, telephone (301) 443-5688. Information can also be found at the following Web site: http://bhpr.hrsa.gov/nursing/nacnep.htm.

Dated: April 3, 2008.
Alexandra Huttinger,
Director, Division of Policy Review and Coordination.

[FR Doc. E8-7591 Filed 4-9-08; 8:45 am]

BILLING CODE 4165-15-P